DEPARTMENT OF JUSTICE

Drug Enforcement Administration

[Docket No. 24-30]

Adam L. Larson, M.D.; Decision and Order

On February 23, 2024, the Drug Enforcement Administration (DEA or Government) issued an Order to Show Cause (OSC) to Adam L. Larson, M.D., of Draper, Utah (Respondent). OSC, at 1, 3. The OSC proposed the revocation of Respondent's DEA Certificate of Registration No. FL0432815, alleging that Respondent is “without authority to handle controlled substances in Utah, the state in which [he is] registered with DEA.” Id. at 1-2 (citing 21 U.S.C. 824(a)(3)).

Respondent requested a hearing and filed an Answer. On March 15, 2024, the Government filed a Submission of Evidence and Motion for Summary Disposition. On April 9, 2024, Administrative Law Judge Paul E. Soeffing (the ALJ) granted the Government's Motion for Summary Disposition and recommended the revocation of Respondent's registration, finding that because Respondent lacks authority to handle controlled substances in Utah, the state in which he is registered with DEA, “there is no other fact of consequence for this tribunal to decide.” Order Granting the Government's Motion for Summary Disposition, and Recommended Rulings, Findings of Fact, Conclusions of Law, and Decision of the Administrative Law Judge (RD), at 6. Respondent did not file exceptions to the RD.

Having reviewed the entire record, the Agency adopts and hereby incorporates by reference the entirety of the ALJ's rulings, findings of fact, conclusions of law, and recommended sanction as found in the RD and summarizes and expands upon portions thereof herein.

Findings of Fact

On January 3, 2024, Respondent surrendered his Utah medical license and Utah controlled substance license. RD, at 3; see also Government's Submission of Evidence and Motion for Summary Disposition, Exhibit (GX) 2, at 7, 11. According to Utah online records, of which the Agency takes official notice, Respondent's Utah medical license and Utah controlled substance license both remain surrendered.¹ Utah Division of Professional Licensing, Licensee Lookup & Verification System, https://secure.utah.gov/llv/search/search.html (last visited date of signature of this Order). Accordingly, the Agency finds that Respondent is not licensed to practice medicine nor to handle controlled substances in Utah, the state in which he is registered with DEA.²

¹ Under the Administrative Procedure Act, an agency “may take official notice of facts at any stage in a proceeding—even in the final decision.” United States Department of Justice, Attorney General's Manual on the Administrative Procedure Act 80 (1947) (Wm. W. Gaunt & Sons, Inc., Reprint 1979). Pursuant to 5 U.S.C. 556(e), “[w]hen an agency decision rests on official notice of a material fact not appearing in the evidence in the record, a party is entitled, on timely request, to an opportunity to show the contrary.” Accordingly, Respondent may dispute the Agency's finding by filing a properly supported motion for reconsideration of findings of fact within fifteen calendar days of the date of this Order. Any such motion and response shall be filed and served by email to the other party and to Office of the Administrator, Drug Enforcement Administration at dea.addo.attorneys@dea.gov.

² In his Answer, Respondent contends that the correct registered address for his DEA Certificate of Registration No. FL0432815 is in Arizona. Answer of Respondent [ ] and Evidence of State Authority (Respondent's Answer), at 1., However, Agency records show that the registered address for Respondent's DEA Certificate of Registration FL0432815 is 12340 South 450 East, Draper, Utah 84020.

Respondent also argues that despite lacking authority to handle controlled substances in Utah, he has authority to handle controlled substances elsewhere, referencing a different DEA Certificate of Registration with a Texas address. Respondent's Answer, at 1. Because Respondent's DEA registration at issue is based on his Utah licenses, which have undeniably been surrendered, it is of no consequence that he may maintain valid authority and a separate DEA registration elsewhere. Ralph Reach, M.D., 89 FR 24036, 24037 n.5 (2024); Omar Garcia, M.D., 87 FR 32186, 32187 n.6 (2022).

Discussion

Pursuant to 21 U.S.C. 824(a)(3), the Attorney General is authorized to suspend or revoke a registration issued under section 823 of the Controlled Substances Act (CSA) “upon a finding that the registrant . . . has had his State license or registration suspended . . . [or] revoked . . . by competent State authority and is no longer authorized by State law to engage in the . . . dispensing of controlled substances.” With respect to a practitioner, the DEA has also long held that the possession of authority to dispense controlled substances under the laws of the state in which a practitioner engages in professional practice is a fundamental condition for obtaining and maintaining a practitioner's registration. See, e.g., James L. Hooper, M.D., 76 FR 71371, 71372 (2011), pet. for rev. denied, 481 F. App'x 826 (4th Cir. 2012); Frederick Marsh Blanton, M.D., 43 FR 27616, 27617 (1978).³

³ This rule derives from the text of two provisions of the CSA. First, Congress defined the term “practitioner” to mean “a physician . . . or other person licensed, registered, or otherwise permitted, by . . . the jurisdiction in which he practices . . . , to distribute, dispense, . . . [or] administer . . . a controlled substance in the course of professional practice.” 21 U.S.C. 802(21). Second, in setting the requirements for obtaining a practitioner's registration, Congress directed that “[t]he Attorney General shall register practitioners . . . if the applicant is authorized to dispense . . . controlled substances under the laws of the State in which he practices.” 21 U.S.C. 823(g)(1). Because Congress has clearly mandated that a practitioner possess state authority in order to be deemed a practitioner under the CSA, the DEA has held repeatedly that revocation of a practitioner's registration is the appropriate sanction whenever he is no longer authorized to dispense controlled substances under the laws of the state in which he practices. See, e.g., James L. Hooper, 76 FR 71371-72; Sheran Arden Yeates, M.D., 71 FR 39130, 39131 (2006); Dominick A. Ricci, M.D., 58 FR 51104, 51105 (1993); Bobby Watts, M.D., 53 FR 11919, 11920 (1988); Frederick Marsh Blanton, 43 FR 27617.

According to Utah statute, “[e]very person who manufactures, produces, distributes, prescribes, dispenses, administers, conducts research with, or performs laboratory analysis upon any controlled substance in Schedules I through V within [the] state . . . shall obtain a license issued by the [Division of Professional Licensing].” Utah Code Ann. section 58-37-6(2)(a)(i) (2024).

Here, the undisputed evidence in the record is that Respondent lacks authority to handle controlled substances in Utah because he surrendered both his Utah medical license and his Utah controlled substance license. As discussed above, an individual must hold a controlled substance license to dispense a controlled substance in Utah. Thus, because Respondent lacks authority to handle controlled substances in Utah, Respondent is not eligible to maintain a DEA registration in Utah. RD, at 5-6. Accordingly, the Agency will order that Respondent's DEA registration in Utah be revoked.

Order

Pursuant to 28 CFR 0.100(b) and the authority vested in me by 21 U.S.C. 824(a), I hereby revoke DEA Certificate of Registration No. FL0432815 issued to Adam L. Larson, M.D. Further, pursuant to 28 CFR 0.100(b) and the authority vested in me by 21 U.S.C. 823(g)(1), I hereby deny any pending applications of Adam L. Larson, M.D., to renew or modify this registration, as well as any other pending application of Adam L. Larson, M.D., for additional registration in Utah. This Order is effective October 28, 2024.

Signing Authority

This document of the Drug Enforcement Administration was signed on September 17, 2024, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2024-22191 Filed 9-26-24; 8:45 am]

BILLING CODE 4410-09-P